DEPARTMENT OF LABOR

Office of the Secretary

29 CFR Part 18

RIN 1290-AA26

Rules of Practice and Procedure for Administrative Hearings Before the Office of Administrative Law Judges; Corrections

AGENCY: Office of the Secretary, Labor.

ACTION: Correcting amendments.

SUMMARY: This document contains corrections to the final regulations which were published in the Federal Register of May 19, 2015 (80 FR 28768). Those regulations relate to rules of practice and procedure for administrative hearings before the Office of Administrative Law Judges.

DATES: Effective on July 1, 2015.

FOR FURTHER INFORMATION CONTACT: Todd Smyth at the U.S. Department of Labor, Office of Administrative Law Judges, 800 K Street NW., Suite 400-North, Washington, DC 20001-8002; telephone (202) 693-7300.

SUPPLEMENTARY INFORMATION:

Background

The final regulations that are the subject of these corrections became effective on June 18, 2015. The regulations constitute the rules of practice and procedure for administrative hearings before the Office of Administrative Law Judges.

Need for Correction

As published, the final regulations contain four internal cross-reference errors, and a typographical error in the title of 29 CFR 18.33(e).

List of Subjects in 29 CFR Part 18

Administrative practice and procedure, Labor.

Accordingly, 29 CFR part 18 is corrected by making the following correcting amendments:

PART 18—RULES OF PRACTICE AND PROCEDURE FOR ADMINISTRATIVE HEARINGS BEFORE THE OFFICE OF ADMINISTRATIVE LAW JUDGES

1. The authority citation for part 18 continues to read as follows:

Authority: 5 U.S.C. 301; 5 U.S.C. 551-553; 5 U.S.C. 571 note; E.O. 12778; 57 FR 7292.

2. Revise paragraph (c) of § 18.32 to read as follows:

§ 18.32 Computing and extending time.

* * * * *

(c) Additional time after certain kinds of service. When a party may or must act within a specified time after service and service is made under § 18.30(a)(2)(ii)(C) or (D), 3 days are added after the period would otherwise expire under paragraph (a) of this section.

3. Revise paragraph (e) of § 18.33 to read as follows:

§ 18.33 Motions and other papers.

* * * * *

(e) Motions made at hearing. A motion made at a hearing may be stated orally unless the judge determines that a written motion or response would best serve the ends of justice.

* * * * *

4. Revise paragraph (d)(1) and the introductory text of paragraph (d)(3) of § 18.51 to read as follows:

§ 18.51 Discovery scope and limits.

* * * * *

(d) Hearing preparation: Experts—(1) Deposition of an expert who may testify. A party may depose any person who has been identified as an expert whose opinions may be presented at trial. If § 18.50(c)(2)(ii) requires a report from the expert the deposition may be conducted only after the report is provided, unless the parties stipulate otherwise.

* * * * *

(3) Hearing-preparation protection for communications between a party's representative and expert witnesses. Paragraphs (c)(1) and (2) under this section protect communications between the party's representative and any witness required to provide a report under § 18.50(c)(2)(ii), regardless of the form of the communications, except to the extent that the communications:

* * * * *

5. Revise paragraph (b) of § 18.53 to read as follows:

§ 18.53 Supplementing disclosures and responses.

* * * * *

(b) Expert witness. For an expert whose report must be disclosed under § 18.50(c)(2)(ii), the party's duty to supplement extends both to information included in the report and to information given during the expert's deposition. Any additions or changes to this information must be disclosed by the time the party's prehearing disclosures under § 18.50(c)(3) are due.

Dated: June 17, 2015.
Stephen R. Henley,
Acting Chief Administrative Law Judge.

[FR Doc. 2015-16239 Filed 6-30-15; 8:45 am]

BILLING CODE 4510-20-P